DEPARTMENT OF THE INTERIOR

Bureau of Land Management

[LLORW00000 L16100000.DP0000.WBSLXSS073H0000; HAG 12-0260]

Notice of Public Meeting, Eastern Washington Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management (BLM) Eastern Washington Resource Advisory Council (EWRAC) will meet as indicated below.

DATES: September 17, 2012. The meeting will be open to the public. It will begin at 10 a.m. and end at 4 p.m. Members of the public will have an opportunity to address the EWRAC at 10 a.m.

ADDRESSES: The meeting will be held at the Washington State Potato Commission, 108 Interlake Road, Moses Lake, Washington 98837.

FOR FURTHER INFORMATION CONTACT: Robert St. Clair, BLM Spokane District, 1103 N. Fancher Rd., Spokane Valley, WA 99212, or call (509) 536-1200. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: Discussion will include the Bureau of Land Management's Eastern Washington and San Juan Resource Management Plan and the U.S. Forest Service's Colville National Forest Plan Revision. Before including your address, phone number, email address, or other personal identifying information in your comment, you should be aware that your entire comment—including your personal identifying information—may be made publicly available at any time. While you can ask us in your comment to withhold your personal identifying information from public review, we cannot guarantee that we will be able to do so.

Allison C. Clough,
Acting Spokane District Manager.

[FR Doc. 2012-20360 Filed 8-17-12; 8:45 am]

BILLING CODE 4310-33-P